DEPARTMENT OF THE INTERIOR

Minerals Management Service

Notice Excluding the Alabama-Coushatta Tribal Leases From Valuation Under 30 CFR 206.172

AGENCY: Minerals Management Service, Interior.

ACTION: Notice.

SUMMARY: The Alabama-Coushatta Tribe has requested that all gas produced from its leases be excluded from valuation under the rules of 30 CFR 206.172 (64 FR 43517, August 10, 1999). The Minerals Management Service (MMS) approves the request.

EFFECTIVE DATE: April 1, 2000.

FOR FURTHER INFORMATION CONTACT: David S. Guzy, Chief, Rules and Publications Staff; telephone, (303) 231-3432; FAX, (303) 231-3385; email, David.Guzy@mms.gov; mailing address, Minerals Management Service, Royalty Management Program, Rules and Publications Staff, P.O. Box 25165, MS 3021, Denver, Colorado, 80225-0165.

SUPPLEMENTARY INFORMATION: On August 10, 1999, MMS published a final rule titled Amendments to Gas Valuation Regulations for Indian Leases (64 FR 43506) with an effective date of January 1, 2000. The final rule permits an Indian tribe to request that some or all of its leases be excluded from valuation under 30 CFR 206.172 (64 FR 43517). If MMS, after consulting with the Bureau of Indian Affairs, approves the request, value is determined under 30 CFR 206.174 (64 FR 43520) beginning with production on the first day of the second month following the date MMS publishes notice in the Federal Register.

On December 13, 1999, by Tribal Resolution Number ACITC 99-52, the Alabama-Coushatta decided to exclude their production. MMS received the tribe's request on January 20, 2000.

As a result of the tribe's request and the publishing of this document, beginning April 1, 2000, gas production from leases on the Alabama-Coushatta Reservation must be valued under 30 CFR 206.174.

Dated: February 18, 2000.
Lucy Querques Denett,
Associate Director for Royalty Management.

[FR Doc. 00-4562 Filed 2-25-00; 8:45 am]

BILLING CODE 4310-MR-P